SOCIAL SECURITY ADMINISTRATION

20 CFR Part 404

Federal Old-Age, Survivors and Disability Insurance (1950- )

CFR Correction

This rule is being published by the Office of the Federal Register to correct an editorial or technical error that appeared in the most recent annual revision of the Code of Federal Regulations.

In Title 20 of the Code of Federal Regulations, Parts 400 to 499, revised as of April 1, 2023, in Appendix I to Subpart P of Part 404, in Part B, section 101.00, revise the first sentence of paragraph C.7.c. to read as follows:

Appendix 1 to Subpart P of Part 404—Listing of Impairments

* * * * *

Part B

* * * * *

101.00 Musculoskeletal Disorders.

* * * * *

C. * * *

7. * * *

c. For 101.15, 101.16, 101.17, 101.18, 101.20C, 101.20D, 101.22, and 101.23, all of the required criteria must be present simultaneously, or within a close proximity of time, to satisfy the level of severity needed to meet the listing. * * *

[FR Doc. 2023-26983 Filed 12-6-23; 8:45 am]

BILLING CODE 0099-10-P